DEPARTMENT OF AGRICULTURE

Agricultural Marketing Service

[Doc. No. AMS-CP-19-0117]

Information Collection Request: Discharge and Delivery Survey Summary and Rate Schedule Forms

AGENCY: Agricultural Marketing Service, USDA.

ACTION: Notice; request for comments.

SUMMARY: In accordance with the Paperwork Reduction Act of 1995, the Agricultural Marketing Service (AMS) is requesting comments from all interested individuals and organizations on a renewal of a currently approved information collection request. This information collection is necessary to support the procurement of agricultural commodities for domestic and export food donation programs. AMS issues invitations to purchase or sell and transport commodities, as well as sample, inspect. and survey, agricultural commodities at both domestic and foreign locations for use in international food donation programs on a monthly, multiple monthly, quarterly, and yearly basis. The AMS Commodity Procurement Program contracts for marine cargo discharge survey services conducted at the foreign destinations to ascertain count and condition of the commodities delivered.

DATES: We will consider comments that we receive by May 15, 2020.

ADDRESSES: Interested persons are invited to submit written comments on the internet at http://www.regulations.gov or to Service Contracting Support Branch, AMS-PPSCD, USDA, P.O. Box 419205, Kansas City, Missouri 64141-6205. Comments should make reference to the dates and page number of this issue of the Federal Register and will be made available for public inspection in the above office during regular business hours or at http://www.regulations.gov.

You may also send comments to the Desk Officer for Agriculture, Office of Information and Regulatory Affairs, Office of Management and Budget, Washington, DC 20503.

FOR FURTHER INFORMATION CONTACT: Cita Trice, Chief; Service Contracting Support Branch, cita.trice@usda.gov (816) 926-1438.

SUPPLEMENTARY INFORMATION:

Title: Discharge and Delivery Survey Summary and Rate Schedule Forms.

OMB Number: 0581-0317.

Expiration Date: April 30, 2020.

Type of Request: Renewal.

Abstract: The United States donates agricultural commodities domestically and overseas for famine or other relief requirements, to combat malnutrition, and sells or donates commodities to promote economic development. AMS issues invitations to purchase or sell agricultural commodities and services for use in domestic and export programs. Vendors respond by making offers using various AMS commodity offer forms through the Web-based Supply Chain Management System (WBSCM). The AMS Commodity Procurement Program contracts for discharge survey services conducted at the foreign destinations to ascertain count and condition of the commodities shipped. The form for discharge survey services is not in WBSCM.

The renewal to the information collection request is for the respondents to submit information electronically in WBSCM for all processes with the exception of the discharge/delivery survey summary and the rates schedule. Vendors will be able to access WBSCM to see the date and time the system shows for receipt of bid, bid modification, or bid cancellation information. At bid opening date and time, the bid information is evaluated through the system. Acceptances will be sent to the successful offerors electronically. Awarded contracts will be posted to the AMS website https://www.ams.usda.gov/selling-food/solicitations and also to the WBSCM portal and beta.SAM.gov, Contract Opportunities. The discharge/delivery survey summary (KC-334) will be collected electronically and by mail, and the rate schedule (KC-337) will be collected by mail.

For the following estimated total annual burden on respondents, the formula used to calculate the total burden hours is the estimated average time per responses multiplied by the estimated total annual of responses.

Estimate of Average Time to Respond: Public reporting burden for collecting information under this notice is estimated to average 29 minutes per response, including the time for reviewing instructions, searching existing data sources, gathering and maintaining the data needed, and completing and reviewing the collection of information.

Respondents: Business and other for-profit organizations.

Estimated Number of Respondents: 41.

Estimated Average Number of Responses per Respondent: 11.83.

Estimated Total Annual Responses: 485.

Estimated Total Annual Burden on Respondents: 234 hours.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Dated: March 10, 2020.
Bruce Summers,
Administrator.

[FR Doc. 2020-05219 Filed 3-13-20; 8:45 am]

BILLING CODE 3410-02-P